DEPARTMENT OF TRANSPORTATION

Federal Aviation Administration

14 CFR Part 39

[Docket No. FAA-2019-0560; Product Identifier 2018-CE-056-AD; Amendment 39-21255; AD No. 2020-19-12]

RIN 2120-AA64

Airworthiness Directives; Glasflugel

AGENCY: Federal Aviation Administration (FAA), DOT.

ACTION: Final rule.

SUMMARY: The FAA is superseding Airworthiness Directive (AD) 2018-21-04 for Glasflugel Models Club Libelle 205, H 301 “Libelle,” H 301B “Libelle,” Kestrel, Mosquito, Standard “Libelle,” and Standard Libelle-201B gliders. This AD results from mandatory continuing airworthiness information (MCAI) originated by an aviation authority of another country to identify and correct an unsafe condition on an aviation product. The MCAI describes the unsafe condition as jamming between the double two-ring end of the towing cable and the deflector angles of the center of gravity (C.G.) release mechanism. The FAA is issuing this AD to address the unsafe condition on these products.

DATES: This AD is effective October 22, 2020.

The Director of the Federal Register approved the incorporation by reference of a certain publication listed in this AD as of November 13, 2018 (83 FR 53573, October 24, 2018).

ADDRESSES: For service information identified in this final rule, contact Glasfaser Flugzeug-Service GmbH, Hansjorg Streifeneder, Hofener Weg 61, 72582 Grabenstetten, Germany; telephone: +49 (0)7382/1032; fax: +49 (0)7382/1629; email: info@streifly.de; internet: https://www.streifly.de/kontakt-e.htm. You may review this referenced service information at the FAA, Airworthiness Products Section, Operational Safety Branch, 901 Locust, Kansas City, Missouri 64106. For information on the availability of this material at the FAA, call (816) 329-4148. It is also available on the internet at https://www.regulations.gov by searching for and locating Docket No. FAA-2019-0560.

Examining the AD Docket

You may examine the AD docket on the internet at https://www.regulations.gov by searching for and locating Docket No. FAA-2019-0560; or in person at Docket Operations between 9 a.m. and 5 p.m., Monday through Friday, except Federal holidays. The AD docket contains this final rule, the regulatory evaluation, any comments received, and other information. The address for Docket Operations is Docket Operations, U.S. Department of Transportation, Docket Operations, M-30, West Building Ground Floor, Room W12-140, 1200 New Jersey Avenue SE, Washington, DC 20590.

FOR FURTHER INFORMATION CONTACT: Jim Rutherford, Aerospace Engineer, FAA, General Aviation & Rotorcraft Section, International Validation Branch, 901 Locust, Room 301, Kansas City, Missouri 64106; telephone: (816) 329-4165; fax: (816) 329-4090; email: jim.rutherford@faa.gov.

SUPPLEMENTARY INFORMATION:

Discussion

The FAA issued a notice of proposed rulemaking (NPRM) to amend 14 CFR part 39 by removing AD 2018-21-04, Amendment 39-19462 (83 FR 53573, October 24, 2018) (“AD 2018-21-04”) and adding a new AD. AD 2018-21-04 applied to Glasflugel Models Club Libelle 205, H 301 “Libelle,” H 301B “Libelle,” Kestrel, Mosquito, Standard “Libelle,” and Standard Libelle-201B gliders and required inspecting the distance between the deflector-angles of the C.G. release mechanism and revising the operations section of the sailplane flight manual (SFM) before the next winch launch. The NPRM published in the Federal Register on August 5, 2019 (84 FR 37974).

AD 2018-21-04 was based on MCAI originated by the European Aviation Safety Agency (EASA), which is the Technical Agent for the Member States of the European Community. EASA issued Emergency AD No. 2018-0143-E, dated July 6, 2018 (referred to after this as “the MCAI”), to correct an unsafe condition for the specified products. The MCAI states:

Jamming between the double two ring end of the towing cable and the deflector angles of the C.G. release mechanism was reported. Subsequent investigation identified incorrect geometry of the deflector angles of the affected part as likely cause of the jamming.

This condition, if not detected and corrected, could lead to failure to disconnect the towing cable, possibly resulting in reduced or loss of control of the sailplane.

To address this potential unsafe condition, Glasfaser Flugzeug-Service GmbH issued the TN [Technical Note] to provide inspection instructions and corrective action.

For the reasons described above, this [EASA] AD requires repetitive inspections of the affected part, and, depending on findings, accomplishment of applicable corrective action(s). This [EASA] AD also requires amendment of the sailplane Aircraft Flight Manual (AFM).

You may examine the MCAI on the internet at https://www.regulations.gov by searching for and locating Docket No. FAA-2019-0560.

The FAA issued AD 2018-21-04 as an interim action to address the immediate need for the initial inspection of the distance between the deflector-angles of the C.G. release mechanism, any necessary corrective action, and the revision of the flying operations section of the SFM. In the NPRM, the FAA proposed to supersede AD 2018-21-04 to address the long-term need to repeat the inspection of the C.G. release mechanism for the distance between the deflector-angles at intervals not to exceed 12 months.

Comments

The FAA gave the public the opportunity to participate in developing this final rule. No comments were received on the NPRM or on the determination of the cost to the public.

Conclusion

The FAA reviewed the relevant data and determined that air safety and the public interest require adopting this final rule as proposed.

Related Service Information Under 1 CFR Part 51

The FAA reviewed Glasfaser-Flugzeug-Service GmbH Technical Note No. 5-2018, dated June 25, 2018, which is incorporated by reference in AD 2018-21-04. The service information provides instructions for measuring the distance between the deflector-angles at the C.G. release and modifying the deflector-angles if necessary. This service information is reasonably available because the interested parties have access to it through their normal course of business or by the means identified in the ADDRESSES section.

Costs of Compliance

The FAA estimates that this AD will affect 177 products of U.S. registry. The FAA also estimates that it would take about 1 work-hour per product to comply with the inspection requirements and revision of the flying operations section of the sailplane flight manual of this AD. The average labor rate is $85 per work-hour.

Based on these figures, the FAA estimates the cost of this AD on U.S. operators to be $15,045, or $85 per product, per inspection cycle.

The FAA estimates that any modification of the deflector-angles that may be necessary as a result of the inspection would take about 4 work-hours and require parts costing $100, for a cost of $440 per product. The FAA has no way of determining the number of products that may need these actions.

This AD retains the actions of AD 2018-21-04. The estimated costs of the initial inspection, any necessary modification, and revision of the flying operations section of the SFM remain the same as AD 2018-21-04 and do not impose an additional burden beyond the cost of repeating the inspection every 12 months.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-21-04, Amendment 39-19462 (83 FR 53573, October 24, 2018); and

b. Adding the following new AD:

2020-19-12 Glasflugel: Amendment 39-21255; Docket No. FAA-2019-0560; Product Identifier 2018-CE-056-AD.

(a) Effective Date

This AD is effective October 22, 2020.

(b) Affected ADs

This AD replaces AD 2018-21-04, Amendment 39-19462 (83 FR 53573, October 24, 2018) (“AD 2018-21-04”).

(c) Applicability

This AD applies to Glasflugel Models Club Libelle 205, H 301 “Libelle,” H 301B “Libelle,” Kestrel, Mosquito, Standard “Libelle,” and Standard Libelle-201B gliders, certificated in any category, with a center of gravity (C.G.) tow release installed.

(d) Subject

Air Transport Association of America (ATA) Code 25: Equipment/Furnishing.

(e) Reason

This AD was prompted by mandatory continuing airworthiness information (MCAI) issued by the aviation authority of another country to identify and correct an unsafe condition on an aviation product. The MCAI describes the unsafe condition as jamming between the double two-ring end of the towing cable and the deflector angles of the C.G. release mechanism. The FAA is issuing this AD to prevent failure of the towing cable to disconnect, which could result in reduced or loss of control of the glider or the cable breaking and causing injury to people on the ground.

(f) Actions and Compliance

Unless already done, do the following actions in paragraphs (f)(1) through (3) of this AD.

(1) Before the next winch launch after November 13, 2018 (the effective date of AD 2018-21-04) and then within 30 days after the effective date of this AD or 12 months after the initial inspection, whichever occurs later, and thereafter at intervals not to exceed 12 months, inspect the distance between the deflector-angles by following paragraph 1 in the Actions section of Glasfaser-Flugzeug-Service GmbH Technical Note No. 5-2018, dated June 25, 2018.

(2) If the distance is less than 36 mm during any inspection required in paragraph (f)(1) of this AD, before the next winch launch, do the corrective action in paragraph 2 in the Actions section of Glasfaser-Flugzeug-Service GmbH Technical Note No. 5-2018, dated June 25, 2018.

(3) Before the next winch launch after November 13, 2018 (the effective date of AD 2018-21-04), revise the flying operations section of the sailplane flight manual by inserting the text in paragraph (f)(3)(i) of this AD into the winch tow section.

(i) Winch launching is permissible only with a connecting ring pair that conforms to aeronautical standard LN 65091.

(ii) This action may be done by the owner/operator (pilot) holding at least a private pilot certificate and must be entered into the aircraft records showing compliance with this AD by following 14 CFR 43.9 (a)(1) through (4) and 14 CFR 91.417(a)(2)(v). The record must be maintained as required by 14 CFR 91.417, 121.380, or 135.439.

(g) Alternative Methods of Compliance

The Manager, International Validation Branch, FAA, has the authority to approve AMOCs for this AD, if requested using the procedures found in 14 CFR 39.19. Send information to Jim Rutherford, Aerospace Engineer, FAA, General Aviation & Rotorcraft, International Validation Branch, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(h) Related Information

Refer to MCAI EASA AD 2018-0143-E, dated July 6, 2018 for related information. You may examine the MCAI on the internet at https://www.regulations.gov by searching for and locating Docket No. FAA-2019-0560.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on November 13, 2018 (83 FR 53573, October 24, 2018).

(i) Glasfaser-Flugzeug-Service GmbH Technical Note No. 5-2018, dated June 25, 2018.

(ii) [Reserved]

(4) For service information identified in this AD, contact Glasfaser Flugzeug-Service GmbH, Hansjorg Streifeneder, Hofener Weg 61, 72582 Grabenstetten, Germany; phone: +49 (0)7382/1032; fax: +49 (0)7382/1629; email: info@streifly.de; internet: https://www.streifly.de/kontakt-e.htm.

(5) You may view this service information at the FAA, Airworthiness Products Section, Operational Safety Branch, 901 Locust, Kansas City, Missouri 64106. For information on the availability of this material at the FAA, call 816-329-4148. In addition, you can access this service information on the internet at https://www.regulations.gov by searching for and locating Docket No. FAA-2019-0560.

(6) You may view this service information that is incorporated by reference at the National Archives and Records Administration (NARA). For information on the availability of this material at NARA, email fedreg.legal@nara.gov, or go to: https://www.archives.gov/federal-register/cfr/ibr-locations.html.

Issued on September 10, 2020.
Gaetano A. Sciortino,
Deputy Director for Strategic Initiatives, Compliance & Airworthiness Division, Aircraft Certification Service.

[FR Doc. 2020-20439 Filed 9-16-20; 8:45 am]

BILLING CODE 4910-13-P